DEPARTMENT OF TRANSPORTATION

Federal Aviation Administration

High Density Airports; Notice of Reagan National Airport Lottery Allocation Procedure

AGENCY: Federal Aviation Administration

ACTION: Notice of clarification.

SUMMARY: This action clarifies the FAA notice of a lottery for the allocation of a limited number of air carrier and commuter slots, published in the Federal Register on July 9, 2003, by providing the applicable definition of a “limited incumbent” carrier for purposes of the upcoming slot lottery at Washington Reagan National Airport on July 31, 2003.

DATES: Effective immediately.

FOR FURTHER INFORMATION CONTACT: Lorelei Peter, Operations and Air Traffic Law Branch, Regulations Division, Office of the Chief Counsel, Federal Aviation Administration, 800 Independence Avenue, SW., Washington, DC 20591; telephone number 202-267-3134.

SUPPLEMENTARY INFORMATION:

Background

On July 9, 2003, the FAA published in the Federal Register a notice of lottery and allocation procedures for slots at Washington Reagan National Airport (DCA) (68 FR 41037). In this notice the FAA stated that Title 49 of the United States Code (U.S.C.) 41714(h)(5)(A) amends the regulatory definition of a limited incumbent carrier to a carrier that holds or operates fewer than 20 lots and includes slot exemptions in the term “slots.”

The FAA has further reviewed this matter and clarifies that the definitions set forth in 49 U.S.C. 41714(h) apply to sections 41714-41718 and 41734(h) only. Therefore, the regulatory definitions of a “new entrant” carrier and a “limited incumbent” carrier, as set forth respectively in 14 CFR 93.213(a)(1) and 93.213(a)(5) are applicable for purposes of the lottery at DCA.

Issued in July 15th, 2003 in Washington, DC.
Andrew S. Steinberg,
Chief Counsel.

[FR Doc. 03-18401 Filed 7-16-03; 11:02 am]

BILLING CODE 4910-13-M